ENVIRONMENTAL PROTECTION AGENCY

[FRL-10085-01-R4]

Public Water System Supervision Program Revision for the State of Georgia

AGENCY: Environmental Protection Agency (EPA).

ACTION: Notice of intended approval.

SUMMARY: Notice is hereby given that the State of Georgia is revising its approved Public Water System Supervision Program. Georgia has adopted drinking water regulations for the Lead and Copper Rule Minor Revisions, Public Notification Rule, Radionuclides Rule, Arsenic and Clarifications to Compliance and New Source Contaminants Monitoring Rule, Stage 2 Disinfectants and Disinfection Byproducts Rule, Long Term 2 Enhanced Surface Water Treatment Rule, Ground Water Rule, Lead and Copper Rule Short-Term Regulatory Revisions and Clarifications, and Revised Total Coliform Rule. The Environmental Protection Agency (EPA) has determined that Georgia's regulations are no less stringent than these Federal rules and the revisions otherwise meet applicable Safe Drinking Water Act requirements. Therefore, the EPA intends to approve these revisions to the State of Georgia's Public Water System Supervision Program.

DATES: Any interested person may request a public hearing. A request for a public hearing must be submitted by September 23, 2022, to the Regional Administrator at the following address: U.S. Environmental Protection Agency, Region 4, Atlanta Federal Center, 61 Forsyth Street SW, Atlanta, Georgia 30303. The Regional Administrator may deny frivolous or insubstantial requests for a hearing. However, if a substantial request for a public hearing is made by September 23, 2022, a public hearing will be held. If no timely and appropriate request for a hearing is received and the Regional Administrator does not elect to hold a hearing on his own motion, this determination shall become final on September 23, 2022. Any request for a public hearing shall include the following information: the name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: Documents relating to this determination are available for inspection between the hours of 9:00 a.m. and 4:00 p.m., Monday through Friday (excluding legal holidays), at the following location: Macon Conference Room, 3rd Floor Tower Building, Atlanta Federal Center, 61 Forsyth Street SW, Atlanta, Georgia 30303. Those intending to view documents should contact Dale Froneberger, EPA Region 4, by telephone at (404) 562-9446 at least 24 hours prior to arriving to coordinate viewing.

FOR FURTHER INFORMATION CONTACT: Dale Froneberger, EPA Region 4, Safe Drinking Water Branch, by telephone at (404) 562-9446, or by email at froneberger.dale@epa.gov.

SUPPLEMENTARY INFORMATION: The State of Georgia has submitted requests that the EPA approve revisions to the State's Safe Drinking Water Act Public Water System Supervision Program to include the authority to implement and enforce the Lead and Copper Rule Minor Revisions, Public Notification Rule, Radionuclides Rule, Arsenic and Clarifications to Compliance and New Source Contaminants Monitoring Rule, Stage 2 Disinfectants and Disinfection Byproducts Rule, Long Term 2 Enhanced Surface Water Treatment Rule, Ground Water Rule, Lead and Copper Rule Short-Term Regulatory Revisions and Clarifications, and Revised Total Coliform Rule. For the requests to be approved, the EPA must find the state regulations codified at Ga. Comp. R. & Regs. r. 391-3-5 to be no less stringent than the Federal rules codified at 40 CFR part 141. The EPA reviewed Georgia's applications using the Federal statutory provisions (section 1413 of the Safe Drinking Water Act), federal regulations (at 40 CFR parts 141 and 142), state regulations, state policies and procedures for implementing the rules, regulatory crosswalks, and the EPA regulatory guidance to determine whether the requests for revision are approvable. The EPA determined that the Georgia regulations are no less stringent than the corresponding Federal rules and the revisions otherwise meet applicable Safe Drinking Water Act requirements. Therefore, the EPA intends to approve these revisions. If the EPA does not receive a timely and appropriate request for a hearing and the Regional Administrator does not elect to hold a hearing on his own motion, this approval shall become final on September 23, 2022.

Authority: Section 1413 of the Safe Drinking Water Act, as amended (1996), and 40 CFR part 142.

Dated: August 18, 2022.
Daniel Blackman,
Regional Administrator.

[FR Doc. 2022-18251 Filed 8-23-22; 8:45 am]

BILLING CODE 6560-50-P